DEPARTMENT OF DEFENSE

Department of the Navy

Meeting of the Board of Visitors of Marine Corps University

AGENCY: Department of the Navy, DoD.

ACTION: Notice of open meeting.

SUMMARY: The Board of Visitors of the Marine Corps University will meet to review, develop and provide recommendations on all aspects of the academic and administrative policies of the University; examine all aspects of professional military education operations; and provide such oversight and advice, as is necessary, to facilitate high educational standards and cost effective operations. The Board will be focusing primarily on the internal procedures of Marine Corps University. All sessions of the meeting will be open to the public.

DATES: The meeting will be held on Friday, October 5, 2012 from 8 a.m. to 3:30 p.m.

ADDRESSES: The meeting will be held at the General Alfred M. Gray Marine Corps Research Center in room 164. The address is: 2040 Broadway Street, Quantico, Virginia 22134.

FOR FURTHER INFORMATION CONTACT: Joel Westa, Director of Academic Support, Marine Corps University Board of Visitors, 2076 South Street, Quantico, Virginia 22134, telephone number 703-784-4037.

Dated: August 31, 2012.
C.K. Chiappetta,
Lieutenant Commander, Judge Advocate General's Corps, U.S. Navy, Federal Register Liaison Officer.

[FR Doc. 2012-22369 Filed 9-10-12; 8:45 am]

BILLING CODE 3810-FF-P